ENVIRONMENTAL PROTECTION AGENCY

40 CFR Parts 60 and 63

[FRL-7637-7]

Supplemental Notice and Extension of the Comment Period for the Proposed National Emission Standards for Hazardous Air Pollutants; and, in the Alternative, Proposed Standards of Performance for New and Existing Stationary Sources: Electric Utility Steam Generating Units

AGENCY: Environmental Protection Agency (EPA).

ACTION: Announcement of public hearing and extension of public comment period.

SUMMARY: The EPA is announcing that a public hearing will be held for the Supplemental Notice of Proposed Rule (Supplemental Proposal) for the January 30, 2004, Proposed National Emission Standards for Hazardous Air Pollutants (69 FR 4652); and, in the Alternative, Proposed Standards of Performance for New and Existing Stationary Sources: Electric Utility Steam Generating Units (Proposed Utility Mercury Reductions Rule).

The Supplemental Proposal includes a model cap and trade program and monitoring and reporting requirements for the January 30, 2004, proposal. The Supplemental Proposal was signed by the EPA Administrator on February 25, 2004, and is posted on the EPA Web site (provided under ADDRESSES).

The public hearing will be held in Denver, Colorado. The hearing is scheduled for March 31, 2004. Persons wishing to present oral testimony for the Supplemental Proposal may do so at this hearing. Details of the hearing are reiterated below.

DATES: Public Hearing. The public hearing will be held on March 31, 2004.

Comments. The public comment period for the Proposed Utility Mercury Reductions Rule, which was published on January 30, 2004, is extended to April 30, 2004, in order to provide the public additional time to submit comments and supporting information.

ADDRESSES: Public Hearing. The hearing will be held at the following location: Hyatt Regency Denver, 1750 Welton Street, Denver, Colorado, 80202, (303) 295-1234.

Comments. Written comments on the Supplemental Proposal may also be submitted to EPA electronically, by mail, by facsimile, or through hand delivery/courier. Please refer to the proposal for the addresses and detailed instructions.

Docket. Documents relevant to this action are available for public inspection at the EPA Docket Center, located at 1301 Constitution Avenue, NW., Room B102, Washington, DC between 8:30 a.m. and 4:30 p.m., Monday through Friday, excluding legal holidays. A reasonable fee may be charged for copying. Documents are also available through EPA's electronic Docket system at http://www.epa.gov/edocket.

Worldwide Web. The EPA Web site for this rulemaking, which includes the Supplemental Proposal and information about the public hearing, is at http://www.epa.gov/mercury.

FOR FURTHER INFORMATION CONTACT: If you would like to speak at the public hearing or have questions concerning the public hearing, please contact Ms. Kelly Hayes at the address given below under SUPPLEMENTARY INFORMATION or at (919) 541-5578. Questions concerning the Supplemental Proposal should be addressed to William Maxwell, U.S. EPA, Office of Air Quality Planning and Standards, Emission Standards Division, Combustion Group (C439-01), Research Triangle Park, NC 27711, telephone number (919) 541-5430, e-mail at maxwell.bill@epa.gov. For information on section 111 Hg Model Trading Rule contact Mary Jo Krolewski, U.S. EPA, 1200 Pennsylvania Ave. (MC 6204J), Washington, DC 20460, telephone number (202) 343-9847, fax number (202) 343-2358, electronic mail (e-mail) address, krolewski.maryjo@epa.gov. For information on the part 75 Hg monitoring requirements contact Ruben Deza, U.S. EPA, 1200 Pennsylvania Ave. (MC 6204J), Washington, DC 20460, telephone number (202) 343-3956, fax number (202) 343-2358, electronic mail (e-mail) address, deza.ruben@epa.gov.

SUPPLEMENTARY INFORMATION:

Public Hearing

The public hearing will provide interested parties the opportunity to present data, views, or arguments concerning the Supplemental Proposal. The EPA may ask clarifying questions during the oral presentations, but will not respond to the presentations at that time. Written statements and supporting information submitted during the comment period will be considered with the same weight as any oral comments and supporting information presented at the public hearing. Written comments must be postmarked by the last day of the comment period, as specified in the Supplemental Proposal.

The public hearing will be held in Denver, Colorado. The hearing is scheduled for March 31, 2004. Persons wishing to present oral testimony on the Supplemental Proposal may do so. The meeting facilities and their phone numbers are provided above under ADDRESSES.

If you would like to present oral testimony at the hearing, please notify Ms. Kelly Hayes at (919) 541-5578 no later than March 26, 2004. She will provide you with a specific time and date to speak.

The public hearing will begin each day at 8 a.m. and continue into the evening until 9 p.m., or later if necessary, depending on the number of speakers. The EPA is scheduling lunch breaks from 12:30 until 2 p.m. and dinner breaks from 6 to 7:30 p.m.

Oral testimony will be limited to a total of 10 minutes per commenter to address the Supplemental Proposal. We will not be providing equipment for commenters to show overhead slides or make computerized slide presentations unless we receive special requests in advance. Commenters should notify Ms. Kelly Hayes if they will need specific equipment. The EPA encourages commenters to provide written versions of their oral testimonies either electronically on computer disk or CD ROM or in paper copy.

The hearing schedules, including lists of speakers, will be posted on EPA's Web pages for the rulemakings at http://www.epa.gov/mercury prior to the hearing. Verbatim transcripts of the hearing and written statements will be included in the rulemaking docket.

Comment Period

Due to the many requests we have received from both the public and members of Congress to extend the public comment period for the January 30, 2004, Proposed Utility Mercury Reduction Rule to reduce air emissions of mercury and nickel, EPA is extending the public comment period by 30 days. Therefore, the public comment period will end on April 30, 2004, rather than March 30, 2004.

How Can I Get Copies of This Document and Other Related Information?

The EPA has established the official public docket for the Supplemental Proposal and the Utility Mercury Reductions Rule under Docket ID No. OAR-2002-0056. The EPA has also developed Web sites for these rulemakings at the addresses given above. Please refer to the Supplemental Proposal for details on accessing information related to that action.

Dated: March 9, 2004.
Jeffrey R. Holmstead,
Assistant Administrator for Air and Radiation.

[FR Doc. 04-6093 Filed 3-16-04; 8:45 am]

BILLING CODE 6560-50-P